SECURITIES AND EXCHANGE COMMISSION

[Release Nos. 33-9418; 34-69988, File No. 265-28]

Dodd-Frank Investor Advisory Committee

AGENCY: Securities and Exchange Commission.

ACTION: Notice of Meeting of Securities and Exchange Commission Dodd-Frank Investor Advisory Committee.

SUMMARY: The Securities and Exchange Commission Investor Advisory Committee, established pursuant to Section 911 of the Dodd-Frank Wall Street Reform and Consumer Protection Act of 2010, is providing notice that it will hold a public meeting on Thursday, July 25, 2013, in Multi-Purpose Room LL-006 at the Commission's headquarters, 100 F Street NE., Washington, DC 20549. The meeting will begin at 10:00 a.m. (EDT) and end at 4:00 p.m. and will be open to the public, except during portions of the meeting reserved for meetings of the Committee's subcommittees. The meeting will be webcast on the Commission's Web site at www.sec.gov. Persons needing special accommodations to take part because of a disability should notify the contact person listed below. The public is invited to submit written statements to the Committee. The agenda for the meeting includes approval of minutes, Investor as Owner Subcommittee recommendation regarding data tagging, Investor as Owner Subcommittee recommendation regarding the use of universal proxy ballots, and subcommittee reports.

DATES: Written statements should be received on or before July 25, 2013.

ADDRESSES: Written statements may be submitted by any of the following methods:

Electronic Statements

▪ Use the Commission's Internet submission form (http://www.sec.gov/rules/other.shtml ); or

▪ Send an email message to rules-comments@sec.gov. Please include File No. 265-28 on the subject line; or

Paper Statements

▪ Send paper statements in triplicate to Elizabeth M. Murphy, Secretary, Securities and Exchange Commission, 100 F Street NE., Washington, DC 20549-1090.

All submissions should refer to File No. 265-28. This file number should be included on the subject line if email is used. To help us process and review your statement more efficiently, please use only one method.

Statements also will be available for Web site viewing and printing in the Commission's Public Reference Room, 100 F Street NE., Room 1580, Washington, DC 20549, on official business days between the hours of 10:00 a.m. and 3:00 p.m. All statements received will be posted without change; we do not edit personal identifying information from submissions. You should submit only information that you wish to make available publicly.

FOR FURTHER INFORMATION CONTACT: M. Owen Donley, Chief Counsel, at (202) 551-6322, Office of Investor Education and Advocacy, Securities and Exchange Commission, 100 F Street NE., Washington, DC 20549.

Dated: July 15, 2013.
Elizabeth M. Murphy,
Secretary.

[FR Doc. 2013-17303 Filed 7-18-13; 8:45 am]

BILLING CODE 8011-01-P